DEPARTMENT OF HEALTH AND HUMAN SERVICES

National Institutes of Health

Submission for OMB Review; Comment Request; The Jackson Heart Study: Annual Follow-Up With Third Party Respondents

SUMMARY: Under the provisions of Section 3507(a)(1)(D) of the Paperwork Reduction Act of 1995, the National Heart, Lung, and Blood Institute (NHLBI), the National Institute of Health (NIH) has submitted to the Office of Management and Budget (OMB) a request for review and approval of the information collection listed below. This proposed information collection was previously published in the Federal Register on November 15, 2000, page 69031-69032 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: The Jackson Heart Study: Annual Follow-up with Third Party Respondents Type of Information Collection Request: New, Need and Use of Information Collection: This is a request for collection of follow-up information from third party individuals (next-of-kin descendants and physicians) for the participants in the Jackson Heart Study (JHS) Follow up. The information is necessary to complete the determination of causes of morbidity and mortality in the JHS Cohort. The initial examination phase of the study began in the fall of 2000 and will take approximately three years to complete. Annual follow-up will begin one year after the initial exam, in the Fall of 2001. The information collected will be used by the public and private sector for public health planning, medical education, other epidemiologic studies, and biomedical. Frequency of Response: One-Time. Affected Public: Individuals or families; Businesses or other for profit; Not-for-profit institutions. Type of Respondents: Third party respondents (next-of-kin decedents and physicians). The annual reporting burden is as follows: Estimated Number of Respondents: 480. Estimated Number of Responses per Respondent: 1. Average Burden Hours Per Response: 0.333. Estimated Total Annual Burden Hours Requested: 160. The annualized cost to respondents is estimated at: $3,600. There are no Capital Costs, Operating Costs or Maintenance Costs to report.

Estimates of the annual reporting burden to respondents:

Type of respondents | Estimated number of respondents | Estimated number of responses per respondent | Average burden hours per response | Estimated total annual burden hours requested
Morbidity & Mortality AFU 3rd party next-of-kin decedents | 240 | 1 | 0.33 | 80
Morbidity & Mortality AFU 3rd party Physicians | 240 | 1 | 0.33 | 80
Total | 480 |  |  | 160

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumption used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden associated response time, should be directed to the: Office of Management and Budget, Office of Regulatory Affairs, New Executive Office Building, Room 10235, Washington, DC 20503, Attention: Desk Officer for NIH. To request more information on the proposed project or to obtain a copy of the data collection plans and instruments, contact: Ms. Cheryl Nelson, Epidemiology and Biometry Program, Division of Epidemiology and Clinical Applications, NHLBI, NIH, II Rockledge Centre, 6701 Rockledge Drive, room 8152, Bethesda, MD, 20892, or call non-toll-free number (301) 435-0451, or e-mail your request, including your address to: cn80n@nih.gov.

Comments Due Date: Comments regarding the information collection are best assured of having their full effected if received on or before July 16, 2001.

Peter J. Savage,
Acting Director, Division of Epidemiology and Clinical Applications, NHLBI.

[FR Doc. 01-14973 Filed 6-13-01; 8:45 am]

BILLING CODE 4140-01-M